DEPARTMENT OF THE TREASURY

Submission for OMB Review; Comment Request

April 20, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 30, 2000, to be assured of consideration.

Customs Service (CUS)

OMB Number: 1515-0021.

Form Number: Customs Form 3499.

Type of Review: Extension.

Title: Application and Approval to Manipulate, Examine, Sample, or Transfer Goods.

Description: Customs Form 3499 is prepared by importers or consignees as an application to request examination, sampling, or transfer of merchandise under Customs supervision. This form is also an application for the manipulation of merchandise in a bonded warehouse and abandonment or destruction of merchandise.

Respondents: Business or other for-profit, Not-for-profit institutions.

Estimated Number of Respondents: 2,290.

Estimated Burden Hours Per Respondent: 6 minutes.

Frequency of Response: On occasion.

Estimated Total Reporting Burden: 13,740 hours.

OMB Number: 1515-0054.

Form Number: Customs Form 3173.

Type of Review: Extension.

Title: Application for Extension of Bond for Temporary Importation.

Description: Importers merchandise which is to remain in the U.S. Customs territory for one year or less without duty payment is entered as a temporary importation. The importer may apply for an extension of this period on Customs Form 3173.

Respondents: Business or other for-profit, Not-for-profit institutions.

Estimated Number of Recordkeepers: 1,200.

Estimated Burden Hours Per Recordkeeper: 10 minutes.

Frequency of Response: On occasion.

Estimated Total Recordkeeping Burden: 348 hours.

Clearance Officer: J. Edgar Nichols, (202) 927-1426, U.S. Customs Service, Printing and Records Management Branch, Ronald Reagan Building, 1300 Pennsylvania Avenue, NW., Room 3.2.C, Washington, DC 20229.

OMB Reviewer: Alexander T. Hunt, (202) 395-7860, Office of Management and Budget, Room 10202, New Executive Office Building, Washington, DC 20503.

Lois K. Holland,
Departmental Reports Management Officer.

[FR Doc. 00-10460 Filed 4-26-00; 8:45 am]

BILLING CODE 4820-02-U